FEDERAL COMMUNICATIONS COMMISSION

[DA 20-992; FRS 17049]

Federal Advisory Committee Act; Technological Advisory Council

AGENCY: Federal Communications Commission.

ACTION: Notice of public meeting.

SUMMARY: In accordance with the Federal Advisory Committee Act, this notice advises interested persons that the Federal Communications Commission's (FCC) Technological Advisory Council will hold a meeting on Tuesday, September 22, 2020 via conference call and available to the public via the internet at http://www.fcc.gov/live, from 10:00 a.m. to 3 p.m.

DATES: Tuesday, September 22, 2020.

ADDRESSES: Federal Communications Commission, 445 12th Street SW, Washington, DC 20554.

FOR FURTHER INFORMATION CONTACT: Michael Ha, Deputy Chief, Policy and Rules Division 202-418-2099; michael.ha@fcc.gov.

SUPPLEMENTARY INFORMATION: At the September 22nd meeting, the FCC Technological Advisory Council will hear presentations from its four working groups: 5G/IOT/V-RAN, Future of Unlicensed Operations, Artificial Intelligence, and 5G Radio Access Network Technology. Meetings are broadcast live with open captioning over the internet from the FCC Live web page at http://www.fcc.gov/live/. The public may submit written comments before the meeting to Michael Ha, the FCC's Designated Federal Officer for Technological Advisory Council by email: michael.ha@fcc.gov or U.S. Postal Service Mail (Michael Ha, Federal Communications Commission, Room 7-A134, 445 12th Street SW, Washington, DC 20554). Open captioning will be provided for this event. Other reasonable accommodations for people with disabilities are available upon request. Requests for such accommodations should be submitted via email to fcc504@fcc.gov or by calling the Office of Engineering and Technology at 202-418-2470 (voice), (202) 418-1944 (fax). Such requests should include a detailed description of the accommodation needed. In addition, please include your contact information. Please allow at least five days advance notice; last minute requests will be accepted but may not be possible to fill.

Federal Communications Commission.
Ronald T. Repasi,
Acting Chief, Office of Engineering and Technology.

[FR Doc. 2020-19770 Filed 9-4-20; 8:45 am]

BILLING CODE 6712-01-P